DEPARTMENT OF THE INTERIOR

National Park Service

American Aviation Heritage National Historic Landmark Theme Study

AGENCY: National Park Service, Interior.

ACTION: Notice of theme study.

SUMMARY: Notice is hereby given that the National Park Service, in cooperation with the United States Air Force is preparing a National Historic Landmark Theme Study on the history of American Aviation. The purpose of this study is to develop a historic context on the story of American Aviation and to identify and prioritize potential National Historic Landmarks.

FOR FURTHER INFORMATION CONTACT: John H. Sprinkle, Jr., Ph.D., National Register, History and Education (2280), National Park Service, 1849 C Street, NW., Room NC 400, Washington, DC 20240. Telephone 202-354-2228.

Dated: April 9, 2004.
Carol D. Shull,
Chief, National Historic Landmarks Survey and Keeper of the National Register of Historic Places, National Register, History and Education, National Park Service.

[FR Doc. 04-10705 Filed 5-11-04; 8:45 am]

BILLING CODE 4312-51-P